ENVIRONMENTAL PROTECTION AGENCY

[FRL-7630-7]

Request for Wetlands Project Proposals

AGENCY: Environmental Protection Agency (EPA).

ACTION: Solicitation of proposals.

SUMMARY: EPA Region 6 is soliciting proposals from State agencies, local governments, and Tribes interested in applying for Federal assistance for the State/Tribal/Local Government Wetlands Protection Development Grant Program under the Clean Water Act section 104(b)(3), 33 U.S.C.1254(b)(3) in the states of Arkansas, Louisiana, New Mexico, Oklahoma, and Texas. This solicitation notice distributes EPA Region 6 requirements. For the FY 04 National Wetlands Guidance please see the Federal Register 69 FR 6284, February 10, 2004 or the national Web site at http://www.epa.gov/owow/wetlands/grantguidelines.

DATES: Proposals must be postmarked by May 3, 2004, for acceptance. No exceptions will be made. Once the proposal is approved for further funding consideration, applicants will be notified to submit a formal application.

ADDRESSES: Send proposals with a cover sheet (included in this guidance) to: Tyrone Hoskins, State/tribal Programs Section (6WQ-AT), EPA Region 6; 1445 Ross Avenue Suite 1200; Dallas, TX 75202-2733. This solicitation notice may also be found at the Assistance Program Branch—State/tribal Programs Section Web site: http://www.epa.gov/earth1r6/6wq/at/wetlands/index.htm.

FOR FURTHER INFORMATION CONTACT: Tyrone Hoskins, State/tribal Programs Section EPA Region 6, 1445 Ross Avenue Suite 1200; Dallas, TX 75202-2733, telephone: (214) 665-7375, fax: (214) 665-6490, e-mail: hoskins.tyrone@epa.gov.

SUPPLEMENTARY INFORMATION: Federal Agency Name: Region 6 Environmental Protection Agency Water Division.

Funding Opportunity Title: Wetland Program Development Grants.

Announcement Type: Notice.

Catalog of Domestic Assistance Number: 66.461.

Overview

The goals of the Environmental Protection Agency's (EPA's) wetland program include increasing the quantity and quality of wetlands in the U.S. by conserving and restoring wetland acreage and improving wetland health. In pursuing these goals, EPA seeks to build the capacity of all levels of government to develop and implement effective, comprehensive programs for wetland protection and management. The six program areas central to achieving these goals are: regulation, monitoring and assessment, restoration, wetland water quality and watershed management, public-private partnerships, and coordination among agencies with wetland or wetland-related programs.

The Wetland Program Development Grants (WPDGs), initiated in FY90, provide States, Tribes, local governments (S/T/LGs), interstate associations, intertribal consortia, and national non-profit, non-governmental organizations (hereafter referred to as applicants or recipients) an opportunity to carry out projects to develop and refine comprehensive wetland programs. WPDGs provide eligible applicants an opportunity to conduct projects that promote the coordination and acceleration of research, investigations, experiments, training, demonstrations, surveys, and studies relating to the causes, effects, extent, prevention, reduction, and elimination of water pollution.

While WPDGs can continue to be used by recipients to build and refine any element of a comprehensive wetland program, emphasis through the competition process will be given to funding projects that address these six areas as identified by EPA: (1) Wetland and stream restoration; (2) protecting at risk waters; (3) watershed planning; (4) hydrogeomorphic assessment; (5) wetlands monitoring strategy; and (6) community environmental stewardship. States, Tribes, local governments (S/T/LGs), interstate associations, intertribal consortia are eligible to apply. Local/regional chapters/affiliations of a nonprofit organization are not eligible for WPDGs.

Interest in the grant program has continued to grow over the years and Congress has appropriated $15 million annually to support the wetland grant program. Since the Wetland Grant Development Program started in FY90, grant funds are awarded on a competitive basis to support development of State and Tribal wetland programs.

The statutory authority for WPDGs is section 104(b)(3) of the Clean Water Act (CWA). Section 104(b)(3) of the CWA restricts the use of these grants to developing and refining wetland management programs by conducting or promoting the coordination and acceleration of research, investigations, experiments, training, demonstrations, surveys, and studies relating to the causes, effects, extent, prevention, reduction, and elimination of water pollution. These competed grants may not be used for the operational support of wetland programs unless it is included in a Performance Partnership Grant (PPG). States and Tribes may not use WPDG funds for implementation of a wetlands program. However, funds available for WPDG grants may be combined in a PPG which may, in certain circumstances, provide the authorization to undertake implementation activities. For further information, see the final rules on Environmental Program Grants for State, Interstate, and local government agencies at 40 CFR part 35, subpart A and Tribes at 40 CFR part 35, subpart B. All projects funded through this program must contribute to the overall development and improvement of S/T/LG wetland programs. Grant applicants must demonstrate that their proposed project integrates with S/T/LG wetland programs.

I. Funding Opportunity Description

The EPA Wetlands Program will award Wetland Program Development Grants to assist States, tribes, and local governments with developing new wetland programs or refining existing wetland programs, and NOT for operational support of wetland programs. Reviewers will pay special attention to the project's longevity and self-sustaining ability. Additional consideration may be given to implementation projects that actually demonstrate protection, restoration or enhancement of wetlands. If a proposal does not meet EPA priorities, the proposal will not be ranked. An applicant should choose the priority which is suitable for their proposed project. EPA will use the selected priority for the evaluation of the proposed project with criteria specific to that priority. Each of the following priorities must also include an outreach component:

1. Wetland and stream restoration: EPA is interested in partnering with state, tribal, and local governments in the area of wetland and stream restoration. Projects should focus on demonstration of new methods, innovative procedures and new partnerships that lead to advances in restoration technology of wetlands and streams. Support for training of personnel is possible with the demonstration project resulting as a part of the training. Grant funds cannot be used to purchase property. Project areas should not be within a mitigation bank.

2. At Risk Waters: Since the Supreme Court ruling on “isolated” waters in the Solid Waste Agency of Northern Cook County (SWANCC) vs. Corps of Engineers case there has been a growing regulatory uncertainty as to the extent of protection of isolated waters and what role the State and Tribes play in protection of such resources. EPA is specifically interested in assisting states and tribes in developing programs that address protection of waters no longer under federal jurisdiction.

3. Watershed Planning: EPA is interested in assisting states, tribes, and local governments in watershed approaches that work to integrate wetlands into a Watershed (Ecosystem) Approach to protect resources, prevent pollution, achieve sustainable environmental goals, and meet other objectives important to the community. Although watershed approaches may vary in terms of specific objectives, priorities, elements, timing and resources, they should be based on partnerships, geographic focus, sound management techniques, science and data. Applicants must identify any funding that has been used to address watershed planning and include an implementation phase of plan.

4. Hydrogeomorphic (HGM) Assessment: For States and Tribes incorporating wetlands into their water by the Clean Water Act, EPA guidance recommends the development of functional assessment or other biological methodology models to classify wetlands. The Hydrogeomorphic (HGM) Approach could be easily used to identify the types of wetlands common to any State and in the designation of beneficial uses for wetlands.

HGM model development continues to be a high priority with EPA. As such, Region 6 will continue target the development of HGM models for regulatory and planning purposes. Region 6 is also interested in a state and/or tribe hosting training on the HGM guide book development in FY04.

5. Wetlands Monitoring Strategy: EPA has requested that each State and Tribe develop a comprehensive monitoring program strategy that addresses all waters, including streams, rivers, lakes, the Great Lakes, reservoirs, estuaries, coastal areas, wetlands, and groundwater (see http://www.epa.gov/owow/monitoring/elements/ for more information). One of the goals of this strategy is to move toward meeting the reporting requirements of CWA § 305(b), that is, to provide “an analysis of the extent to which all navigable waters'provide for the protection and propagation of a balanced population of shellfish, fish, and wildlife * * *” EPA encourages to work across programmatic and agency lines to incorporate various monitoring plans and approaches into this comprehensive strategy. Included in this effort should be the integration of wetland monitoring plans into the water quality monitoring strategy.

6. Community Environmental Stewardship (Urban Sprawl): EPA has identified the need for a focus on stream and wetland protection in rapidly developing urban areas. Measures such as training, educational programs, public-planning efforts, demonstration of bioengineering as an alternative to traditional methods and resource preservation of streams and wetlands are targeted for funding and technical assistance.

II. Award Information

• Region 6 estimates $1.3 million funding level for FY 2004.

• The amount and number of awards will vary according to the number of proposals selected.

• Wetland funds will be awarded in the form of Cooperative Agreements. Cooperative Agreements require substantial EPA involvement. Quarterly reports will be required as well as annual performance evaluations.

• The available funds cannot be used for renewal or supplementation of existing projects.

• The average award for FY 2003 was $129,000.

• State, Tribe, or local government must provide a 25 percent (25%) match of the total costs of the project.

• 15 percent (15%) of funding allocation will be targeted to support local and tribal initiatives.

• Anticipated start dates for FY 2004 projects will be September 01, 2004.

• Project performance periods will be between 12 months and 48 months.

III. Eligibility Information

Failure to submit the requested information by the corresponding dates will result in the elimination of the project from consideration for funding. Applicants with poor past performance records on wetlands projects will not be considered for these funds. Funds are available specifically to assist State, tribal, and local government agencies in wetland protection efforts. Projects must clearly demonstrate a direct link to increase in the State's, tribe's, or local government's ability to protect, restore, and/or manage its wetland resources. EPA will provide 75% of the total cost of the selected projects. The recipient will be responsible for the remaining 25% (match). Federal funds cannot be used as matching funds (except Bureau of Indian Affairs 638 funds).

IV. Application and Submission Information

This announcement contains all of the information needed to apply for the available funds. The FY 2004 EPA Wetlands Solicitation Notice can also be viewed at the following Web site: http://www.epa.gov/earth1r6/6wq/at/sttribal.htm. Applications are not requested at this time. If a proposal is identified as having particular merit, then EPA will request a formal, completed grant application and a detailed workplan.

Important Dates to Note

May 3, 2004—Proposals must be POSTMARKED by this date, or they will not be accepted. Certified mail is recommended, and keep documentation.

June 2, 2004—Letters are sent requesting formal applications from selected proposals.

July 2, 2004—Formal applications must be POSTMARKED by this date, or they will not be accepted. Certified mail is recommended, and keep documentation.

July 19, 2004—Awarding of grants and Congressional notification to grantees *(See note below)

Note: The Headquarters Office of Congressional and Legislative Affairs notifies the congressional delegation when a grant is awarded in a Region 6 State/Congressional district. Each grant is held for five (5) working days after signature to allow the congressional delegation time to make an announcement, if so desired. Headquarters has asked that requests for waivers of the five-day notification period no longer be made. Therefore, this five-day congressional hold is built into the grant cycle process.

Guidelines for Proposals

A proposal is different from a work plan. Pre-proposal assistance is available through April 19, 2004. Please contact Ms. Wanda Boyd at 214-665-6696 or Richard Prather at 214-665-8333 to arrange for pre-proposal assistance. If you are unsure of any section or criteria, please call Region 6 BEFORE you submit your package. Keep in mind this is a competitive process, and adherence to the proposal guidelines is part of the selection criteria. The proposal should contain the following information, with a maximum of five (5) one sided pages:

1. All Proposals must utilize the standard Wetlands Proposal Cover Sheet which can be found at the following Web site: http://www.epa.gov/earth1r6/6wq/at/sttribal.htm.

2. Title;

3. Identify which priority your proposal addresses.

4. Introduction with brief background, goals, and objectives;

5. Overview of project, listing each task and deliverable. Give specific information concerning the task, explaining how it will be accomplished, how it relates to the overall project, and how the progress will be monitored;

6. A location map and a project site map/drawing (these will not count against the five page limit);

7. Any use of contractors must be included and explained. Guidance precludes greater than a 50% pass through to contractors, and specifies significant involvement of grant recipient.

8. Proposed costs, broken down by task, including contractor's costs by task;

9. Identify measures of success, including clear milestones with expected dates. Include the number of wetland acres affected by project;

10. Include a public participation element (40 CFR part 25) in the proposal which reflects how public participation will be provided, encouraged, and assisted. Include a full description of its interagency and public participation process. This process should go beyond the input stage and include information and methods of sharing throughout the project period;

11. There should be concrete demonstration of coordination/partnership among various agencies. This can be accomplished in various ways, including a written agreement with agencies outlining responsibilities and commitment to the project; and,

12. Region 6 requires a 25% match of the total project cost. The proposal needs to show the Federal assistance amount you are requesting from EPA, 25% minimum agency match, and the total amount for the project. Use the following formula: Requested EPA amount divided by 75% equals the total amount for the project. Subtract the EPA amount from the total, and that is the minimum, required match. Your match may exceed 25%. (Example: EPA amount $50,000; project total is $66,667; required 25% match is $16,667).

13. Explain if your agency has a Quality Management Plan (QMP) approved by EPA. If your project contains environmental measurements, a QMP must be approved before any money can be awarded.

14. Identify if there are any known threatened or endangered species and/or cultural resource concerns.

V. Proposal Review Information

An applicant should choose the priority which is suitable for their proposed project. EPA will use the selected priority for the evaluation of the proposed project with criteria specific to that priority. Each priority has criteria with associated points, with an opportunity for comments. The points of each reviewer for each proposal are totaled, comments are added, then each proposal is given an average. The Committee meets to discuss each proposal and review the results of scoring. The proposals with the highest ranking, up to the estimated amount of funding, are selected. The selection of a proposal does not necessarily mean that the requested amount will be offered. The Wetlands Team will review the workplan and budget may subsequently request that the amount of work and/or the budget be revised. Upon approval of management, formal applications are then requested from the selected applicants.

Each of the priorities will also include an outreach component that will have criteria for the outreach component as part of the evaluation. These outreach criteria of the six priorities are listed below.

Outreach Requirements To Be Included Within Each Priority (15 points)

Successful outreach programs should include, but not be limited to: development of innovative, hands-on, interactive tools and exercises; workshops; new publications; public awareness videos on topics such as wetlands and riparian areas which are not generally well understood; watershed-based and community-based education for all ages. Low priority will be given to projects which are predominantly reprinting of publications, and projects which are redundant of past activities and do not further public understanding of wetlands, watersheds, streams, and riparian areas.

EPA is interested in continued success with environmental outreach and environmental education (EE) programs which raise awareness of human impacts on the environment, and corrective measures which address those impacts. Project proposals consistent with the above six technical and regulatory priorities are expected to have well developed outreach components, five criteria, 3 points each, 15% of total score:

1. This project actively engages a wide range of partners (individuals, business, non-governmental organizations, government) in the affected community/target audience which represent diverse interests.

2. The outreach plan/activities provide efficient delivery of the project goals/mission/outcomes to the affected area/community.

3. The tools/materials/media developed or used in this project effectively convey information/education to a well targeted audience, and are easily adapted/reproduced for use in related projects/programs.

4. This project has measures of outreach/EE success that are realistic, and will clearly demonstrate attainment of goals presented in the project proposal.

5. Activities/tools/materials/ used for outreach in this project are developed/obtained in a cost-effective manner.

Priority

1. Wetland and stream restoration: EPA is interested in partnering with state, tribal, and local governments in the area of wetland and stream restoration. Projects should focus on demonstration of new methods, innovative procedures and new partnerships that lead to advances in restoration technology of wetlands and streams are sought. A monitoring component must be incorporated into the workplan. Support for training of personnel is possible with the demonstration project resulting as a part of the training. Grant funds cannot be used to purchase property. Project areas should not be within a preapproved mitigation bank.

Criteria: (85 points).

1. Does the proposal demonstrate significant environmental results and is self-sustaining, naturally functioning wetland or riparian area?

2. What type of restoration is proposed? What will be the on ground activities that will result in a change to the landscape?

3. What is the size of the area being proposed?

4. Will the project result in the protection or preservation of wetland habitat for a threatened or endangered species?

5. Will the project demonstrate new innovative ways to restore wetlands or streams?

6. Will the project include a training component?

7. Stream restoration projects require a minimum of three years of post-restoration monitoring.

Priority

2. At Risk Waters: Since the Supreme Court ruling on “isolated” waters in the SWANCC case there has been a growing regulatory uncertainty as to the extent of protection of isolated waters and what role the State and Tribes play in protection of such resources. EPA is specifically interested in assisting states and tribes in developing programs that address protection of waters no longer under federal jurisdiction.

Criteria: (85 points).

1. Will the proposal assist states, tribes and local governments in protecting, restoring and or enhancing “waters at risk'?

2. Does the proposal address impact assessment—direct and indirect effects to wetlands?

3. Is there a focus on particularly vulnerable areas and/or resources within the state? How are these areas determined?

4. Where does the authority to protect vulnerable areas come from—statute, regulation, policy? Will the protective measures come from voluntary participation?

5. Is the project achievable and does it have sustainable long term benefits?

Priority

3. Watershed Planning: EPA is interested in assisting states, tribes, and local governments in watershed approaches that work to integrate wetlands into a Watershed (Ecosystem) Approach to protect resources, prevent pollution, achieve sustainable environmental goals, and meet other objectives important to the community. Although watershed approaches may vary in terms of specific objectives, priorities, elements, timing and resources, they should be based on partnerships, geographic focus, sound management techniques, science and data. Applicants must identify any funding that has been used to address watershed planning and include an implementation phase of plan.

Criteria: (85 points).

To be eligible for funding the plan must contain a specific wetland and implementation component which will yield identifiable environmental improvements, i.e. acres of wetlands restored or preserved.

1. Will the project have achievable and have sustainable long term benefits?

2. Does the project implement wetlands improvements as a part of a broader, more comprehensive watershed plan?

3. Is the proposed project being developed and implemented by multiple partners in a new or existing group or alliance whose goal it is to address the various problems affecting water quality in a specific watershed?

4. Has the specific wetland(s) to be addressed been identified?

5. Has the implementation component been clearly described?

6. In light of the implementation component that has been described, has a realistic environmental improvement endpoint been identified?

7. Has the method(s) for identifying environmental improvement endpoints been clearly identified?

Priority

4. Hydrogeomorphic (HGM) Assessment: For States incorporating wetlands into their water quality standards as required by the Clean Water Act, EPA guidance recommends the development of functional assessment or other biological methodology models to classify wetlands. The Hydrogeomorphic (HGM) Approach could be easily used to identify the types of wetlands common to any State and in the designation of beneficial uses for wetlands.

HGM model development continues to be a high priority with the EPA HQ. As such, EPA will continue to target the development of HGM models for regulatory and planning purposes. EPA is also interested in a state and/or tribe hosting training on the HGM guide book development in FY04.

Criteria: (85 points).

1. Will the project result in, or contribute to, the development of a statewide wetland monitoring plan or strategy for incorporation into a State's or Tribe's comprehensive water quality monitoring strategy?

2. Does the project include a process and/or procedures for developing an assessment method? Are there reference wetlands or areas being used in the process?

3. Is the assessment tool transferrable to other wetland types?

4. Will the classification of functional wetland processes/systems utilized in the HGM model development assist the State/Tribe in designating functional wetland classifications/uses in wetland water quality standards, wetland monitoring strategies, in the regulatory program, or long-term restoration projects?

5. Does the project include training of staff, which would result in enhanced environmental protection of wetlands?

Priority

5. Community Environmental Stewardship (Urban Sprawl): EPA has identified the need for a focus on stream and wetland protection in rapidly developing urban areas. Measures such as training, educational programs, public-planning efforts, demonstration of bioengineering as alternative to traditional methods and resource preservation of streams and wetlands are targeted for funding and technical assistance.

Criteria: (85 points).

All planning and training efforts must include implementation measures (demonstration project) to be eligible for funding.

1. Will the project implement a part of the State or Tribal Wetlands conservation plan?

2. Does project have a plan to measure long term success (monitoring plan)?

3. Is the project using alternative techniques to assess, restore, monitor stream and/or wetlands?

4. Has the specific stream and/or wetland(s) to be addressed been identified?

5. Has the implementation component been clearly described?

6. In light of the implementation component that has been described, has a realistic environmental improvement endpoint been identified? Is it adjustable for future growth?

7. Has the method(s) for identifying environmental improvement endpoints been clearly identified?

Priority

6. Wetlands Monitoring Strategy: EPA has requested that each State and Tribe develop a comprehensive monitoring program strategy that addresses all State waters, including streams, rivers, lakes, the Great Lakes, reservoirs, estuaries, coastal areas, wetlands, and groundwater. One of The goals of this strategy is to move States and Tribes toward meeting the reporting requirements of CWA § 305(b), that is, to provide “an analysis of the extent to which all navigable waters * * * provide for the protection and propagation of a balanced population of shellfish, fish, and wildlife * * *” EPA encourages States and Tribes to work across programmatic and agency lines to incorporate various monitoring plans and approaches into this comprehensive strategy.

Criteria: (85 points).

1. Will the project result in, or contribute to, the development of a statewide wetland monitoring plan or strategy for incorporation into a State's or Tribe's comprehensive water quality monitoring strategy?

2. Does the proposal provide a commitment to develop a wetlands monitoring plan or strategy that will incorporate all wetland types?

3. Is there evidence that partnerships with other agencies or organizations charged with conducting water quality monitoring have been made, or will be made, to adequately assure that the strategy will be integrated with the State's or tribe's comprehensive strategy?

4. There are 10 elements which should be included in a statewide monitoring program (see http://www.epa.gov/owow/monitoring/elements/). A monitoring strategy would be the first element and the following nine (9) elements are incorporated into the strategy. These strategies should be State or tribe specific, be designed from the monitoring capabilities each State or tribe already has, and incorporate a time frame, not to exceed 10 years, for completion of implementation of the strategy.

10 Elements of a Monitoring Program

1. Monitoring Program Strategy

2. Monitoring Objectives

3. Monitoring Design

4. Core and Supplemental Water Quality Indicators (e.g. biological community condition, wetland hydrogeomorphic settings and functions)

5. Quality Assurance

6. Data Management

7. Data Analysis/Assessment

8. Reporting

9. Programmatic Evaluation

10. General Support and Infrastructure Planning

5. Does the project proposal make a commitment to describe how the State or Tribe plans to address each of the remaining nine (9) elements, as appropriate, in its wetland monitoring strategy?

EPA Will Not Provide Funds for the Following

• Boardwalks, interpretive buildings or other like structures, walking paths, park amenities such as restrooms, parking lots, boat ramps.

• Any project that may negatively impact any threatened or endangered species.

VI. Award Administration Information for Competitive Process

A. Award Notices

All applicants will be notified by the Region 6 EPA Office on whether or not the applicant has been selected for funding. The notification is not an authorization to begin performance. A notice signed by the Management Division is the authorizing document to the applicant to begin performance.

B. Administrative and National Policy Requirements

The general award and administration process for all WPDGs is governed by regulations at 40 CFR part 30 (“Grants and Agreements with Institutions of Higher Education, Hospitals, and Other Non-Profit Organizations”), 40 CFR part 31 (“Uniform Administrative Requirements for Grants and Cooperative Agreements to State and local governments”) and 40 CFR part 35, subpart A (“Environmental Program Grants for State, interstate, and local government agencies”) and subpart B (“Environmental Program Grants for Tribes”).

C. Reporting

WPDGs are currently covered under the following EPA grant regulations: 40 CFR part 30 (non-profit organizations); 40 CFR part 31 (States, Tribes, interstate agencies, intertribal consortia and local governments) and 40 CFR part 35, subpart A (States, interstate agencies and local governments) and subpart B (Tribes and intertribal consortia). These regulations specify basic grant reporting requirements, including performance and financial reports (see 40 CFR 30.51, 30.52, 31.40, 31.41, 35.115, and 35.515.) Region 6 EPA will work closely with recipients to incorporate appropriate performance measures into each grant agreement consistent with 40 CFR 30.51, 31.40, 35.115, and 35.515. Quarterly reports will be required for all awarded projects.

VII. Agency Contact

Tyrone Hoskins, State/Tribal Programs Section (6WQ-AT), EPA Region 6; 1445 Ross Avenue; Dallas, TX 75202, Phone: 214-665-7187; E-mail: hoskins.tyrone@epa.gov.

VIII. Other Information

A. Quality Assurance/Quality Control (QA/QC)

QA/QC and peer review are sometimes applicable to these grants (see 40 CFR 30.54 and 40 CFR 31.45.) QA/QC requirements apply to the collection of environmental data. Environmental data are any measurements or information that describe environmental processes, location, or conditions; ecological or health effects and consequences; or the performance of environmental technology. Environmental data include information collected directly from measurements, produced from models, and compiled from other sources such as databases or literature. Applicants should allow sufficient time and resources for this process. EPA can assist applicants determine whether QA/QC is required for the proposed project. If QA/QC is required for the project, the applicant is encouraged to work with the appropriate EPA quality staff to determine the appropriate QA/QC practices for the project. If the applicant has an EPA-approved quality assurance project plan and it covers the project in the application, then they need only reference the plan in their application. Contact the appropriate Headquarters or Regional Office Wetland Grant Coordinator (See Section VII for Agency Contact information) for referral to an EPA quality staff.

B. Public Participation

EPA regulations require public participation in various Clean Water Act programs including grants (40 CFR part 25). Each applicant for EPA financial assistance shall include tasks for public participation in their project's work plan submitted in the grant application (40 CFR 25.11.) The project work plan should reflect how public participation will be provided for, assisted, and accomplished.

C. Annual Wetlands Meeting/Training

EPA encourages S/T/LGs to include travel plans for wetland personnel to attend at least one national wetland meeting in support of the project or for training each year (e.g., National EPA, State, tribal, local wetland meeting or wetland monitoring workshops.) Applicants should account for travel plans and costs in the work plans and the project budget. EPA's Wetlands Program does not anticipate providing travel for State, tribal or local government staff to attend meetings other than through this grant program.

Dated: February 25, 2004.
Miguel I. Flores,
Director, Water Quality Protection Division, Region 6.

[FR Doc. 04-4825 Filed 3-3-04; 8:45 am]

BILLING CODE 6560-50-P